ENVIRONMENTAL PROTECTION AGENCY

[FRL 11397-01-OA]

Farm, Ranch, and Rural Communities Advisory Committee (FRRCC); Notice of Public Meeting

AGENCY: Environmental Protection Agency (EPA).

ACTION: Notice of meeting.

SUMMARY: Pursuant to the Federal Advisory Committee Act (FACA), notice is hereby given that the next meeting of the Farm, Ranch, and Rural Communities Advisory Committee (FRRCC) will be held virtually on September 28, 2023. Due to unforeseen administrative circumstances, EPA is announcing this meeting with less than 15 calendar days public notice. The FRRCC provides independent policy advice, information, and recommendations to the Administrator on a range of environmental issues and policies that are of importance to agriculture and rural communities.

DATES: This meeting will be held virtually Thursday, September 28, 2023, from approximately 10 a.m. to 4 p.m. ET. This meeting will take place virtually. To register and receive information on how to listen to the meeting and to provide comments, please visit: www.epa.gov/faca/frrcc. Attendees must register online to receive instructions for virtual attendance.

ADDRESSES: Virtual attendance will be via Zoom. The link to register for the meeting can be found on the FRRCC web page, www.epa.gov/faca/frrcc.

FOR FURTHER INFORMATION CONTACT: Venus Welch-White, Designated Federal Officer (DFO), at FRRCC@epa.gov or 202-566-2369. General information regarding the FRRCC can be found on the EPA website at: www.epa.gov/faca/frrcc.

SUPPLEMENTARY INFORMATION:

Meetings of the FRRCC are open to the public. An agenda will be posted at www.epa.gov/faca/frrcc.

Access and Accommodations: For information on access or services for individuals with disabilities, please visit: www.epa.gov/faca/frrcc.

Rodney Snyder,
Senior Advisor for Agriculture, U.S. EPA.

[FR Doc. 2023-20336 Filed 9-19-23; 8:45 am]

BILLING CODE 6560-50-P